DEPARTMENT OF AGRICULTURE

Forest Service

Kootenai (KNF) and Idaho Panhandle National Forests (IPNF); Montana, Idaho and Washington; Revised Land and Resource Management Plans

AGENCY: Forest Service, USDA.

ACTION: Notice of intent to prepare an environmental impact statement (EIS) and revised land management plans using the provisions of the National Forest System land and resource management planning rule in effect prior to November 9, 2000, for the Kootenai and Idaho Panhandle National Forests located in Lincoln, Sanders, and Flathead counties in Montana; Bonner, Boundary, Kootenai, Shoshone, Benewah, Latah, and Clearwater counties in Idaho; and Pend Oreille county in Washington.

SUMMARY: As directed by the National Forest Management Act, the US Forest Service is preparing the revised land management plans for the Kootenai and Idaho Panhandle National Forests and will also prepare one Environmental Impact Statement (EIS) for the revised plans unless, during the revision process, the need for two separate EISs is found to be warranted. The Kootenai and Idaho Panhandle National Forests comprise the Kootenai and Idaho Panhandle Planning Zone (KIPZ). This notice briefly describes where the Forests are in this revision process and information concerning public participation. It also provides estimated dates for filing the EIS and provides the names and addresses of the responsible agency official and the individual who can provide additional information. This notice also briefly describes the applicable planning rule and how work done on the plan revision under the 2008 planning rule will be used or modified for completing the plan revision.

The revised land management plans will supersede the current land management plans previously approved by the Regional Forester in 1987 and as amended. The amended plans will remain in effect until the revision takes effect.

DATES: Comments providing additional information for the plans will be used to develop the draft revised forest plan and EIS. This information would be most useful if received by May 15, 2010. The agency expects to complete a proposed plan and draft EIS by December 2010, and a final plan and final EIS by December 2011. The dates, time, and location of any open houses will be posted on the forests' Web site: http://www.fs.fed.us/kipz.

ADDRESSES: Send written comments to KIPZ, Attention: Forest Plan Revision Team, Idaho Panhandle National Forests, Forest Supervisors Office, 3815 Schreiber Way, Coeur d'Alene, ID 83815. Comments may also be sent via e-mail: rl_kipz_revision@fs.fed.us.

FOR FURTHER INFORMATION CONTACT: Linda Clark, revision co-team leader Idaho Panhandle National Forests, 3815 Schreiber Way, Coeur d'Alene, ID 83815, 208 765-7417, laclark@fs.fed.us or Kathy Rodriguez, revision co-team leader, Kootenai National Forest, Forest Supervisors Office, 31374 U.S. Highway 2, Libby, MT 59923-3022, 406-293-6211, krodriguez@fs.fed.us. Information on this revision is also available at KIPZ revision Web site (http://www.fs.fed.us/kipz). Individuals who use telecommunication devices for the deaf (TDD) may call the Federal Information Relay Service (FIRS) at 800-877-8339 between 8 a.m. and 8 p.m., Eastern Time Monday through Friday.

SUPPLEMENTARY INFORMATION:

Name and Address of the Responsible Official

Leslie A.C. Weldon, Regional Forester, 200 E. Broadway, Missoula, MT 59807.

Nature of the Decision To Be Made

The Kootenai and Idaho Panhandle National Forests are preparing an EIS to revise the current forest plans. The EIS process is meant to inform the Regional Forester so that she can decide which alternative best meets the need to achieve quality land management under the sustainable multiple-use management concept to meet the diverse needs of people while protecting the forests' resources, as required by the National Forest Management Act and the Multiple Use Sustained Yield Act.

The revised forest plans describe the strategic intent of managing the Kootenai and Idaho Panhandle National Forests into the next 10 to 15 years. The revised forest plans provide management direction in the form of goals (desired conditions), objectives, suitability determinations, standards, guidelines, and a monitoring plan. They also make new special area recommendations for wilderness, research natural areas, and other special areas.

Applicable Planning Rule

Preparation of the revised plans was underway when the 2008 National Forest System land management planning rule was enjoined on June 30, 2009, by the United States District Court for the Northern District of California (Citizens for Better Forestry v. United States Department of Agriculture, 632F. Supp. 2d 968 (N.D.Cal. June, 2009)).

On December 18, 2009, the Department reinstated the previous planning rule, commonly known as the 2000 planning rule in the Federal Register (74 FR 242, pages 67059 through 67075 [Friday, December 18, 2009]). The 2000 planning rule was amended in 2002 to allow the Forest Service to follow the procedures of the 1982 Forest System Land and Resource Management Planning Rule (1982 Rule). The Kootenai and Idaho Panhandle National Forests have elected to use the provisions of the 1982 Planning Rule including the requirement to prepare an ETS to complete their revised plans.

In late 2000, the KIPZ began working on revision of their Land Management Plans (LMPs) under the 1982 Planning Rule. In April 2002, a Notice of Intent (NOT) was published in the Federal Register, announcing the revision of the LMPs with a 12 month public comment period. Work continued on the LMPs under the 1982, 2000, 2005, and 2008 Planning Rules. Results from public involvement work conducted since 2002, were used as the revision continued through June 2009. Proposed Plans were released in 2006, under the 2005 Planning Rule. Since 2008, work on the revision of the LMPs was conducted in accordance with all Forest Service directives applicable to the 2008 Planning Rule.

Although the 2008 Planning Rule is no longer in effect, information gathered prior to the court's injunction is useful for completing the revision of the plans using the provisions of the 1982 Planning Rule. The KIPZ has concluded that the following material developed during the plan revision process to date is appropriate for continued use in the revision process:

• The Content Analysis report prepared in 2004, summarized what the KIPZ had learned from people that responded to the preliminary proposed action, revision topics, and need for change through the various public and workgroup meetings, open houses, field trips, invited group presentations, and meetings with Tribal partners, agency partners, and elected officials up to that time.

• The Analysis of the Management Situation (AMS) and AMS Technical Report completed in March 2003 forms the basis for need to change the current forest plans and the proposed action for the plan revision.

• The Comprehensive Evaluation Report (CER) provided for public review and comment in 2006, built upon the AMS and documents the evaluation of the 1987 Forest Plans and proposed changes. The CER evaluates current social, economic, and ecological conditions and trends that contribute to sustainability. The CER, under the 2005 and 2008 Planning Rules, served as the principle document that supported the need to establish, amend, or revise a plan. The CER identifies factors that affect conditions and trends, and includes information of what is causing conditions to change, and describes the influence plan implementation would have on moving toward desired conditions.

• The inventory and evaluation of potential wilderness areas presented in the Proposed Land Management Plans and CER made available for public review and comment in May 2006, for both forests, is consistent with appropriate provisions of the 1982 planning Rule and will be brought forward into this planning process.

• The Analysis of Public Comment report prepared in March 2007 synthesizes and summarizes the comments and concerns heard during the comment period for the Proposed Land Management Plans released in May 2006.

• Information developed by the working groups (which included over 140 meetings) and discussions regarding Geographic Area (GA) desired conditions, the revision topics, monitoring and other plan components (1982 Planning Rule) and over fifty meetings and discussions on the starting option maps and potential changes to suggest to Forest Supervisors (2005 Planning Rule) that went into the Proposed LMPs.

• There are additional background reports, assessments, datasets, and public comment that will be used, some of which can be found on the KIPZ Web site.

As necessary or appropriate, the above listed material will be further adjusted as part of the planning process using the provisions of the 1982 Planning Rule (Authority: 16 U.S.C. 1600-1614; 36 CFR 219.35 (December 18, 2009) (74 FR 242)).

Proposed Action

The proposed action will be developed using the information that has been developed and summarized over the last 10 years including: Public comments, public working groups, AMS, CER, and proposed plans. Using the information from public involvement and content analysis on the proposed plans, the revision team worked on finalizing the plans from 2007 to 2009. The Forests propose to review the work that has been completed to date to develop a proposed action and range of alternatives.

Revision Topics Carried Forward

The Forests propose to carry forward the following Forestwide revision topics as published in the May 2006 Proposed Land Management Plans. These revision topics were identified in the 2003 AMS, and updated in the CER under the 2005, and 2008 Planning Rules:

• Access and Recreation

• Vegetation

• Timber

• Fire

• Wildlife

• Watersheds (Water, Soil, and Riparian) and Aquatic Species

• Recommended Wilderness

The Forests propose to start with the Proposed LMPs and comments received (under the 1982 and 2005 Planning Rules) to build Plans under the 1982 Planning Rule and proposed action in the accompanying EIS.

Public Involvement

Extensive public involvement and collaboration has occurred over the past eight years. Informal discussions with the public regarding needed changes to the current forest plans began with a series of public meetings in 2002. This input, along with science-based evaluations, and inventory and monitoring was used to determine the need for change identified above.

Additional meetings, correspondence, news releases, comment periods, and other tools have been utilized to gather feedback from the public, forest employees, tribal governments, federal and state agencies, and local governments.

The KIPZ hosted approximately thirty informational and comment meetings within communities of Idaho, Montana, and Washington during the scoping process, which started in April 2002, with the Notice of Intent in the Federal Register, and ended in May 2004. In addition to the public meetings, briefings and meetings were held with the Tribes, Congressionals and other elected officials, other agencies, and interest groups.

Also during the scoping period, the KIPZ hosted approximately 140 workgroup meetings from August 2003 to May 2004. These meetings were held in communities within the KIPZ zone and the workgroups focused on the GAs surrounding each of these communities. The purpose of these workgroup meetings was to: (1) Share information about the revision topics, (2) collaboratively discuss and develop desired conditions for each of the revision topics within the workgroup's GAs, and (3) gain an understanding of the issues and appreciation of others' viewpoints. Workgroup meeting notes and desired condition statements can be found on the KIPZ Web site (http://www.fs.fed.us/kipz).

This information was used in developing forestwide and GA desired conditions, other management direction such as management area direction, and the starting option map, which was used at further workgroup meetings in the summer of 2005.

In addition to these workgroup meetings, briefings and meetings were held with the Tribes, Congressionals and other elected officials, other agencies, and interest groups (upon request). Several elected officials, Congressional staffers, and other agency representatives participated in the workgroup meetings.

From July to September 2005, the KIPZ hosted additional workgroup meetings in the same communities focusing on the same GAs. The purpose of these workgroup meetings was to: (1) Share the starting option maps and discuss how they were developed, (2) validate the information on the maps, and (3) collaboratively discuss any possible changes to the maps. In addition to these meetings, meetings were held with elected officials, the Tribes, and other groups. The comments from all of these meetings resulted in decisions made by the Forest Supervisors to change the starting option maps. Workgroup meeting notes can be found on the KIPZ Web site (http://www.fs.fed.us/kipz).

In October 2005, Draft Forest Plans maps were released with the intent to provide information back to the public on how the starting option maps had changed. It did not initiate a comment period. The maps, along with the rationale for the changes, are posted on the KIPZ Web site. The Draft Forest Plans maps were used by the revision team to complete the Proposed Land Management Plans.

In May 2006, the Kootenai and Idaho Panhandle National Forests prepared and released Proposed Land Management Plans, with maps, for a 90-day comment period (extended to 120 days). An Analysis of Public Comment report was prepared in March 2007, and posted on the KIPZ Web site (http://www.fs.fed.us/kipz). The report synthesized the comments and concerns heard during the comment period for the Proposed Land Management Plans.

The KIPZ will continue regular and meaningful consultation and collaboration with tribal nations, on a government-to-government basis. The agency will work with tribal governments to address issues concerning Indian tribal self-government and sovereignty, natural and cultural resources held in trust, Indian tribal treaty and Executive order rights, and any issues that significantly or uniquely affect their communities.

The KIPZ desires to continue collaborative efforts with members of the public who are interested in management of the Forests, as well as federal and state agencies, local governments, and private organizations.

If you feel that we missed any substantive issues or concerns from those listed above as revision topics or additional, different comments from those provided on the Proposed LMPs, please e-mail, call or write to us. If you do wish to comment, it is important that you provide comments at such times and in such a way (clearly articulate your concerns) that they are useful to the Agency's preparation of the revised plan and the EIS. The submission of timely and specific comments can affect a reviewer's ability to participate in subsequent administrative or judicial review. At this time, we anticipate using the 2000 Planning Rule pre-decisional objection process (36 CFR 219.32) for administrative review.

Comments received in response to this solicitation, including the names and addresses of those who comment will be part of the public record. Comments submitted anonymously will be accepted and considered.

Dated: March 2, 2010.
Leslie A.C. Weldon,
Regional Forester, Forest Service Northern Region.

[FR Doc. 2010-4929 Filed 3-9-10; 8:45 am]

BILLING CODE 3410-11-M